DEPARTMENT OF THE INTERIOR

Fish and Wildlife Service

[FWS-R6-R-2014-N116; FXRS12610600000-145-FF06R06000]

National Elk Refuge, Jackson, WY; Comprehensive Conservation Plan and Environmental Assessment

AGENCY: Fish and Wildlife Service, Interior.

ACTION: Notice of availability; request for comments.

SUMMARY: We, the U.S. Fish and Wildlife Service (Service), announce that our draft comprehensive conservation plan (CCP) and environmental assessment (EA) for the National Elk Refuge is available. This draft CCP describes how the Service intends to manage this refuge for the next 15 years.

DATES: To ensure consideration, we must receive your written comments on the draft CCP/EA by October 9, 2014. Submit comments by one of the methods under ADDRESSES.

ADDRESSES: Send your comments or requests for more information by any of the following methods.

Email: refuge_ccps@fws.gov. Include “National Elk Refuge CCP” in the subject line of the message.

U.S. Mail: Toni Griffin, Planning Team Leader, Suite 300, 134 Union Boulevard, Lakewood, CO 80228.

Document Request: A copy of the CCP/EA may be obtained by writing to U.S. Fish and Wildlife Service, Division of Refuge Planning, 134 Union Boulevard, Suite 300, Lakewood, CO 80228; or by download from http://www.fws.gov/mountain-prairie/planning/ccp/wy/ner/ner.html.

FOR FURTHER INFORMATION CONTACT: Toni Griffin, 303-236-4378 (phone); or toni_griffin@fws.gov (email).

SUPPLEMENTARY INFORMATION:

Introduction

With this notice, we continue the CCP process for the National Elk Refuge. We started this process through a notice in the Federal Register (75 FR 65370, October 22, 2010). The National Elk Refuge was established in 1912 as a “winter game (elk) reserve” (37 Stat. 293, 16 U.S.C. 673), and the following year Congress designated the area as “a winter elk refuge” (37 Stat. 847). In 1921, all lands included in the refuge, or that might be added in the future, were reserved and set apart as “refuges and breeding grounds for birds” [Executive Order (EO) 3596, which was affirmed in 1922 (EO 3741)]. In 1927 the refuge was expanded to provide “for the grazing of, and as a refuge for, American elk and other big game animals” (44 Stat. 1246, 16 U.S.C. 673a). These purposes apply to all or most of the lands now within the refuge. Several parcels have been added to the refuge specifically for the conservation of fish and wildlife (Fish and Wildlife Act of 1956), the development of wildlife-oriented recreational opportunities (Refuge Recreation Act of 1962, 16 U.S.C. 460k-l), the protection of natural resources, and the conservation of threatened and endangered species (Endangered Species Act of 1973; 16 U.S.C. 1531 et seq.).

The refuge is located in Teton County, Wyoming. A wide variety of habitats are found on the National Elk Refuge, including grassy meadows, marshes, timbered areas, sagebrush, and rocky outcroppings. Between November and May, the wildlife concentrations and diversity provide spectacular wildlife viewing opportunities. The refuge's nearly 25,000 acres provide a winter home for one of the largest wintering concentrations of elk. In addition to the large elk herds, a free roaming bison herd winters at the refuge. A variety of waterfowl, including trumpeter swans, can be seen on nearly 1,600 acres of open water and marshlands. At least 47 mammal species and nearly 175 species of birds have been observed on the refuge. Some notable species include moose, bighorn sheep, pronghorn, gray wolves, mountain lions, bald eagles, and peregrine falcons.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Public Outreach

We started the CCP process for the National Elk Refuge in October 2010. Throughout the process, we have requested public comments and considered and incorporated them in the planning process. Public outreach has included a news release, planning update, and a scoping meeting. Comments we received cover topics such as habitat management, threatened and endangered species, and public use. We have considered and evaluated all of these comments, with many incorporated into the various alternatives addressed in the draft CCP and the EA.

CCP Alternatives We Are Considering

Alternative A—Current Management (No Action)

This no-action alternative represents the current management of the refuge. This alternative provides the baseline against which to compare the other alternatives. Programs would follow the same direction, emphasis, and intensity as they do now. The refuge would not expand current habitat and wildlife practices that benefit bison, elk, migratory birds, or other wildlife. Public use opportunities would remain at current levels.

Alternative B

An important aspect of this alternative would be to increase opportunities for wildlife-dependent public uses such as hunting, fishing, wildlife observation, photography, environmental education, and interpretation programs. This alternative would allow for the most public use as compared to the other alternatives. The other emphasis of this alternative would be to meet habitat and wildlife population objectives through intensive management actions. Because of increased public opportunities, refuge staff would focus more on intensive refuge-specific monitoring, rather than ecosystem monitoring, to gauge the effects of public use on habitat and wildlife.

Alternative C

This alternative would focus on preserving the Great Yellowstone Ecosystem and supporting natural processes. We would strive to preserve intact plant communities, maintain long-distance ungulate migrations, and maintain a full suite of large native carnivores. Public use would emphasize interpretation, environmental education and outreach which may occur off-refuge through community programs and classroom settings, along with the publication and distribution of printed and electronic materials, over recreational opportunities that are direct experiences on the refuge. Tools such as webcams may be installed to provide offsite wildlife viewing opportunities.

Alternative D—Proposed Action

Our proposed action is a blended alternative which incorporates a combination of elements from alternative B and alternative C. Habitat and wildlife management would allow for natural processes to promote natural habitats. Some habitats, such as wetlands, would be intensively managed to enhance swan habitat and improve forage quantity and quality for elk and bison. Similar to alternative B, the refuge would increase opportunities for wildlife-dependent public uses such as hunting, fishing, wildlife observation and photography, and environmental education. Keeping some areas undeveloped and returning some areas to a natural state, we would increase development in other areas to enhance visitor services.

Public Meetings

Opportunity for public input will be provided at a public meeting. The specific date and time for the public meeting is yet to be determined, but will be announced via local media and a planning update.

Next Steps

After the public reviews and provides comments on the draft CCP and EA, the planning team will present this document along with a summary of all substantive public comments to the Regional Director. The Regional Director will consider the environmental effects of each alternative, along with information gathered during public review, and will select a preferred alternative for the draft CCP and EA. If the Regional Director finds that no significant impacts would occur, the Regional Director's decision will be disclosed in a Finding of No Significant Impact. If the Regional Director finds a significant impact would occur, an environmental impact statement will be prepared. If approved, the action in the preferred alternative will compose the final CCP.

Public Availability of Comments

All public comment information provided voluntarily by mail, by phone, or at public meetings (e.g., names, addresses, letters of comment, input recorded during meetings) becomes part of the official public record. If requested under the Freedom of Information Act by a private citizen or organization, the Service may provide copies of such information.

Authority

The environmental review of this project will be conducted in accordance with the requirements of the National Environmental Policy Act (NEPA) of 1969, as amended (42 U.S.C. 4321 et seq.); NEPA Regulations (40 CFR parts 1500-1508, 43 CFR part 46); other appropriate Federal laws and regulations; Executive Order 12996; the National Wildlife Refuge System Administration Act of 1966 (16 U.S.C. 668dd-668ee) (Administration Act), as amended by the National Wildlife Refuge System Improvement Act of 1997; and Service policies and procedures for compliance with those laws and regulations.

Dated: August 5, 2014.
Matt Hogan,
Acting, Regional Director, Mountain Prairie Region, U.S. Fish and Wildlife Service.

[FR Doc. 2014-21415 Filed 9-8-14; 8:45 am]

BILLING CODE 4310-55-P